DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10(a)(1)(A) of the Endangered Species Act of 1973, as amended (16 U.S.C. 1531 et seq.).

Permit No. TE-007216

Applicant: Laura Boykin, Albuquerque, New Mexico

The applicant requests a permit to remove and reduce to possession specimens of Orcuttia californica, Orcuttia pilosa, Orcuttia viscida, Tuctoria greenei, and Tuctoria mucronata in conjunction with evolutionary research and the collection of voucher specimens throughout each species' range in California for the purpose of enhancing their survival.

Permit No. TE-029414

Applicant: Nathan Moorhatch, Riverside, California

The applicant requests a permit to take (survey by pursuit) the Delhi Sands flower-loving fly (Raphiomidas terminatus abdominalis) and the Quino checkerspot butterfly (Euphydryas editha quino) in conjunction with presence or absence surveys throughout each species' range for the purpose of enhancing their survival.

Permit No. TE-031471

Applicant: The Nature Conservancy, Portland, Oregon

The applicant requests a permit to take (harass, capture, and harm) the Fender's blue butterfly (Icaricia icarioides fenderi) in conjunction with presence or absence surveys and through activities directed at maintaining and restoring habitat throughout the species' range for the purpose of enhancing its survival.

Permit No. TE-029394

Applicant: Maeton Freel, Goleta, California

The applicant requests a permit to take (harass by survey and nest monitoring) the southwestern willow flycatcher (Empidonax traillii extimus) in conjunction with surveys in the Los Padres National Forest, California, for the purpose of enhancing its survival.

Permit No. TE-802107

Applicant: Patricia Baird, Long Beach, California

The permittee requests a permit amendment to take (collect blood) the least tern (Sterna antillarum) throughout its range in Louisiana, Kentucky, and Tennessee in conjunction with genetic research, for the purpose of enhancing its survival.

Permit No. TE-745541

Applicant: SJM Biological Consultants, San Diego, California

The permittee requests a permit amendment to take (toe-clip and PIT-tag) the Pacific pocket mouse (Perognathus longimembris pacificus) in conjunction with ecological research, and take (radio-tag) the Stephens' kangaroo rat (Dipodomys stephensi) in conjunction with translocation activities and ecological research throughout each species' range, for the purpose of enhancing their survival.

Permit No. TE-796271

Applicant: S.C. Dodd Biological Consulting, San Diego, California

The permittee requests a permit amendment to take (toe-clip and PIT-tag) the Pacific pocket mouse (Perognathus longimembris pacificus) in conjunction with ecological research throughout its range, for the purpose of enhancing its survival.

Permit No. TE-807635

Applicant: Thomas Boullion, Cottonwood, California

The permittee requests a permit amendment to take (harass by survey, collect and sacrifice) the San Diego fairy shrimp (Brachinecta sandiegonensis) and the Riverside fairy shrimp (Streptocephalus woottoni) in conjunction with surveys throughout each species' range in California for the purpose of enhancing its survival.

Permit No. TE-030362

Applicant: Tenera Environmental, LLC., San Luis Obispo, California

The applicant requests a permit to take (harass by survey, capture) the Morro shoulderband snail (Helminthoglypta walkeriana) in conjunction with surveys throughout its range in California, for the purpose of enhancing its survival.

Permit No. TE-030384

Applicant: Vince Semonsen, Santa Barbara, California

The applicant requests a permit to take (capture and handle; collect tissue samples) the California tiger salamander (Ambystoma californiense) in conjunction with presence or absence surveys and genetic research in Santa Barbara County, California, for the purpose of enhancing its survival.

Permit No. TE-795938

Applicant: EIP Associates, Sacramento, California

The permittee requests a permit amendment to take (capture and handle; collect tissue samples) the California tiger salamander (Ambystoma californiense) in conjunction with presence or absence surveys and genetic research in Santa Barbara County, California, for the purpose of enhancing its survival.

Permit No. TE-023496

Applicant: Endangered Species Recovery Program, Fresno, California

The permittee requests a permit amendment to take (capture and radio-tag) the Fresno kangaroo rat (Dipodomys nitratoides exilis) throughout its range in conjunction with relocation efforts and population augmentation at Lemoore Naval Air Station, Kings County, California, for the purpose of enhancing its survival.

Permit No. TE-702631

Applicant: Assistant Regional Director—Ecological Services, Region 1, U.S. Fish and Wildlife Service, Portland, Oregon

The permittee requests a permit amendment to take the short-tailed albatross (Phoebastria albatrus) throughout its range in conjunction with recovery efforts for the purpose of enhancing its survival.

DATES: Written comments on these permit applications must be received on or before September 28, 2000.

ADDRESSES: Written data or comments should be submitted to the Chief—Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: August 21, 2000.
Don Weathers,
Acting Regional Director, Region 1, Portland, Oregon.

[FR Doc. 00-21987 Filed 8-28-00; 8:45 am]

BILLING CODE 4310-55-P